INTERNATIONAL TRADE COMMISSION

[Investigation No. 332-549]

Rice: Global Competitiveness of the U.S. Industry

AGENCY: United States International Trade Commission.

ACTION: Cancellation of hearing.

SUMMARY: The public hearing in this investigation scheduled for September 10, 2014, has been cancelled. The two interested parties that filed requests to appear at the hearing have withdrawn their requests to appear.

DATES: December 9, 2014: Deadline for filing all written submissions. April 14, 2015: Transmittal of Commission report to the Committee.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader John Giamalva (202-205-3329 or john.giamalva@usitc.gov) or deputy project leader Marin Weaver (202-205-3461 or marin.weaver@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission published notice of institution of the investigation and the scheduling of a public hearing in the Federal Register of June 20, 2014 (79 FR 35381). Except for dates and instructions related to the hearing and hearing submissions, all other information in the June 20 notice remains the same, including with respect to the deadline for filing written submissions and the instructions relating to the filing of those submissions. The Commission instituted the investigation on June 17, 2014, under section 332(g) of the Tariff Act of 1930 (19 U.S.C. 1332(g)), following receipt on May 15, 2014, of a request from the Committee on Ways and Means of the House of Representatives.

By order of the Commission.
Issued: September 4, 2014.
Lisa R. Barton,
Secretary to the Commission.

[FR Doc. 2014-21422 Filed 9-9-14; 8:45 am]

BILLING CODE 7020-02-P